FEDERAL ACCOUNTING STANDARDS ADVISORY BOARD

Notice of Issuance of Exposure Draft of a Concepts Statement on Measurement of the Elements of Accrual-Basis Financial Statements in Periods After Initial Recording

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has issued an Exposure Draft of a Concepts Statement on Measurement of the Elements of Accrual-Basis Financial Statements in Periods After Initial Recording.

The Exposure Draft is available on the FASAB home page http://www.fasab.gov/exposure.html. Copies can be obtained by contacting FASAB at (202) 512-7350.

Respondents are encouraged to comment on any part of the exposure draft. Written comments are requested by November 30, 2010, and should be sent to: Wendy M. Payne, Executive Director, Federal Accounting Standards Advisory Board, 441 G Street, NW, Suite 6814, Mail Stop 6K17V, Washington, DC 20548.

FOR FURTHER INFORMATION CONTACT: Wendy Payne, Executive Director, at (202) 512-7350.

Authority: Federal Advisory Committee Act, Pub. L. 92-463.

Dated: September 21, 2010.
Charles Jackson,
Federal Register Liaison Officer.

[FR Doc. 2010-24047 Filed 9-23-10; 8:45 am]

BILLING CODE 1610-02-P